DEPARTMENT OF ENERGY

Federal Energy Regulatory Commission

[Docket No. IC14-9-000]

Commission Information Collection Activities (FERC-520, FERC-561, and FERC-566); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting its information collections FERC-520 (Application for Authority to Hold Interlocking Directorate Positions), FERC-561 (Annual Report of Interlocking Positions), and FERC-566 (Annual Report of a Utility's 20 Largest Purchasers) to the Office of Management and Budget (OMB) for review of the information collection requirements. Any interested person may file comments directly with OMB and should address a copy of those comments to the Commission as explained below. The Commission previously issued a Notice in the Federal Register (79 FR 12191, 3/4/2014) requesting public comments. The Commission received four comments on the FERC-520, FERC-561, and FERC-566 information collections. The Commission addresses these comments in this notice and in its submittal to OMB.

DATES: Comments on the collection of information are due August 8, 2014.

ADDRESSES: Comments filed with OMB, identified by the OMB Control Nos. 1902-0083, 1902-0099, and 1902-0114, should be sent via email to the Office of Information and Regulatory Affairs: oira_submission@omb.gov, Attention: Federal Energy Regulatory Commission Desk Officer. The Desk Officer may also be reached via telephone at 202-395-4718.

A copy of the comments should also be sent to the Commission, in Docket No. IC14-9-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-520 (Application for Authority to Hold Interlocking Directorate Positions), FERC Form 561 (Annual Report of Interlocking Positions), and FERC-566 (Annual Report of a Utility's 20 Largest Purchasers).

OMB Control No.: FERC-521 (1902-0083), FERC-561 (1902-0099), and FERC-566 (1902-0114).

Type of Request: Three-year extension of the FERC-521, FERC Form 561, and FERC-566 information collection requirements with no changes to the reporting requirements.

Abstract: The Federal Power Act (FPA), as amended by the Public Utility Regulatory Policies Act of 1978 (PURPA), mandates federal oversight and approval of certain electric corporate activities to ensure that neither public nor private interests are adversely affected. Accordingly, the FPA proscribes related information filing requirements to achieve this goal. Such filing requirements are found in the Code of Federal Regulations (CFR), specifically in 18 CFR Parts 45, 46, and Section 131.31 and serve as the basis for FERC-520, Form 561, and FERC-566.

Overview of the Three Data Collections. FERC-520, Form 561 and FERC-566 provide information related to complex electric corporate activities and serve to safeguard public and private interests, as the FPA requires. The Commission can use its enforcement authority when violations and omissions of FPA requirements occur.

FERC-520: FERC-520 is divided into two types of applications: Full and informational. The full application, as specified in 18 CFR Section 45.8, implements the FPA requirement under Section 305(b) that it is unlawful for any person to concurrently hold the positions of officer or director of more than one public utility; or a public utility and a financial institution that is authorized to underwrite or participate in the marketing of public utility securities; or a public utility and an electrical equipment supplier to that public utility, unless authorized by order of the Commission. In order to obtain authorization, an applicant must demonstrate that neither public nor private interests will be adversely affected by the holding of the position. The full application provides the Commission with information about any interlocking position for which the applicant seeks authorization including, but not limited to, a description of duties and the estimated time devoted to the position.

An informational application, specified in 18 CFR Section 45.9, allows an applicant to receive automatic authorization for an interlocked position upon receipt of the filing by the Commission. The informational application applies only to those individuals who seek authorization as: (1) an officer or director of two or more public utilities where the same holding company owns, directly or indirectly, that percentage of each utility's stock (of whatever class or classes) which is required by each utility's by-laws to elect directors; (2) an officer or director of two public utilities, if one utility is owned, wholly or in part, by the other and, as its primary business, owns or operates transmission or generation facilities to provide transmission service or electric power for sale to its owners; or (3) an officer or director of more than one public utility, if such person is already authorized under Part 45 to hold different positions as officer or director of those utilities where the interlock involves affiliated public utilities.

Pursuant to 18 CFR 45.5, in the event that an applicant resigns or withdraws from Commission-authorized interlocked positions or is not re-elected or re-appointed to such interlocked positions, the Commission requires that the applicant submit a notice of change within 30 days from the date of the change.

FERC Form 561: The Commission uses FERC Form 561 to implement the FPA requirement that those who are authorized to hold certain interlocked positions annually disclose the interlocked positions they held the prior year. The positions that must be disclosed in the Form 561 include those which public utility officers and directors hold with other public utilities, with financial institutions, insurance companies, electrical equipment and fuel providers, and with any of the public utility's 20 largest purchasers of electric energy. The FPA specifically defines most of the information elements in the Form 561, including the information that must be filed, the required filers, the directive to make the information available to the public, and the filing deadline.

FERC-566: FERC-566 implements FPA requirements that each public utility annually publish a list of the 20 purchasers which purchased the largest annual amounts of electric energy sold by such public utility during any of the three previous calendar years. The public disclosure of this information provides the information necessary to determine whether an interlocked position is with any of the 20 largest purchasers of electric energy. Similar to the Form 561, the FPA identifies who must file the FERC-566 report and sets the filing deadline.

Type of Respondents: Individuals who plan to concurrently become or concurrently are officers or directors of public utilities and of certain other entities must request authorization to hold such interlocking positions by submitting a FERC-520. Those who are authorized to hold interlocked positions must annually disclose interlocked positions that they held in the prior calendar year by submitting a Form 561. Lastly, each public utility must annually publish the FERC-566 to list the purchasers of the 20 largest annual amounts of electric energy sold by such public utility during any of the last three calendar years.

Estimates of Annual Burden: ¹ The Commission estimates the annual public reporting burdens for the information collections as:

¹ The Commission defines burden as the total time, effort, or financial resources expended by persons to generate, maintain, retain, or disclose or provide information to or for a Federal agency. For further explanation of what is included in the information collection burden, reference 5 Code of Federal Regulations 1320.3.

² The estimates for cost per response are derived using the following formula: Total Annual Cost (Column 5) ÷ Total Number of Responses (Column 3) = Average Cost per Response.

³ Total Annual Burden Hours * $70.50.

FERC-520
[Application for Authority to Hold Interlocking Directorate Positions]
| Number of respondents | Annual number of responses per respondent | Total number of responses | Average burden/cost per response ² | Total annual burden hours (total annual cost) ³ | Cost per respondent ($)
| (1) | (2) | (1)*(2)=(3) | (4) | (3)*(4)=(5) | (5)÷(1)
Full | 10 | 1 | 10 | 51.8 | 518 | 3,652
|  |  |  | $3,651.9 | $36,519
Informational | 454 | 1 | 454 | 16 | 7,264 | 1,128
|  |  |  | $1,128 | $512,112
Notice of Change | 254 | 1 | 254 | 0.25 | 63.5 | 17.63
|  |  |  | $17.63 | $4,477
Total |  |  | 718 |  | 7,845.5 | $4,797.63
|  |  |  |  | $553,108

FERC Form 561
[Annual Report of Interlocking Positions]
| Number of respondents | Annual number of responses per respondent | Total number of responses | Average burden/cost per response ² | Total annual burden hours (total annual cost) ³ | Cost per respondent ($)
| (1) | (2) | (1)*(2)=(3) | (4) | (3)*(4)=(5) | (5)÷(1)
FERC Form 561 | 2,675 | 1 | 2,675 | 0.25 | 668.75 | 17.63
|  |  |  | $17.63 | $47,147

FERC-566
[Annual Report of a Utility's 20 Largest Purchasers]
| Number of respondents | Annual number of responses per respondent | Total number of responses | Average burden/cost per response ² | Total annual burden hours (total annual cost) ³ | Cost per respondent ($)
| (1) | (2) | (1)*(2)=(3) | (4) | (3)*(4)=(5) | (5)÷(1)
FERC-566 | 1,082 | 1 | 1,082 | 6 | 6,492 | 423
|  |  |  | $423 | $457,686

Public Comments and FERC Responses: A summary of the comments filed by the public in response to the 30-day notice for the FERC-520, FERC-561, and FERC-566 information collections and FERC's responses are provided below.

Public Comments: A number of commenters request changes to Form 561. For example, the Electric Power Supply Association (EPSA) argues that the Commission should modify Form 561 to allow individuals holding interlocking positions pursuant to automatic authorization to check a box indicating that they hold interlocking positions solely with affiliated entities. Similarly, NRG Energy (NRG) argues that, instead of requiring the Form 561, the Commission should consider an annual report where those holding covered positions are permitted to check a box indicating that they are the officer or director of affiliated entities, whether the entities are public utilities, electrical equipment suppliers, fuel suppliers or none of the categories. White & Case LLP (White & Case) submits that the Commission should only require the re-filing of an updated Form 561 after a year in which the individual changed reportable positions from those previously reported in a prior Form 561.

Commenters also request certain exemptions from the FERC-520 and FERC-566 reporting requirements. White & Case suggests that the Commission should not require an informational report under Part 45 for automatic authorization to hold officer/director positions with more than one public utility in a corporate family when the corporate family does not include any franchised public utility with captive customers. White & Case also recommends that the Commission eliminate the requirement to file notices of change under section 45.5 of the Commission's regulations and the requirement to file FERC-566 for public utilities that do not make any reportable sales. NYISO argues that it should be exempted from the requirement to submit FERC-566. EPSA and NRG suggest that the Commission should exempt electric wholesale generators (EWG) from the FERC-566 filing requirement.

FERC's Response: The Commission shares commenters' interest in identifying and implementing burden reductions to the benefit of filers as well as the Commission. Nevertheless, commenters' suggestions raise issues that require additional study. Moreover, should the Commission determine after further study to pursue changes to these information collections, those changes would be more appropriately addressed in a forum and through a process that is better suited to full public identification of and deliberation on possible proposed changes. Any changes to the Commission's regulations would need to be made through the Commission's formal rulemaking process. Given competing demands on the resources of both the Commission and industry, we estimate that it would take more than two years to complete the rulemaking process for the three information collections. That period includes the development, preparation and issuance of a Notice of Proposed Rulemaking, review of the submitted comments, the preparation and promulgation of a Final Rule and the development and implementation of any necessary software changes. As a result, the Commission is requesting that OMB extend the three collections for three years and thus provide the Commission with the necessary time to consider the issues and, if it decides that changes may be warranted, to promulgate any necessary rulemakings.

Additional Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 1, 2014.
Kimberly D. Bose,
Secretary.

[FR Doc. 2014-15993 Filed 7-8-14; 8:45 am]

BILLING CODE 6717-01-P